FEDERAL MARITIME COMMISSION

Ocean Transportation Intermediary License; Revocations

The Federal Maritime Commission hereby gives notice that the following Ocean Transportation Intermediary licenses have been revoked pursuant to section 40901 of the Shipping Act of 1984 (46 U.S.C. 40101) effective on the corresponding date shown below:

LICENSE NUMBER: 347F.

NAME: T.A. Provence and Company, Incorporated.

ADDRESS: 154 State Street, Mobile, AL 36603.

DATE REVOKED: June 30, 2012.

REASON: Failed to maintain a valid bond.

LICENSE NUMBER: 011056NF.

NAME: EMO-Trans, Georgia, Inc.

ADDRESS: 20 Southwoods Parkway, Suite 500, Atlanta, GA 30354.

DATE REVOKED: May 17, 2012.

REASON: Voluntarily surrendered license.

LICENSE NUMBER: 13488N.

NAME: FCL/LCL International Inc.

ADDRESS: 150-14, 132nd Avenue, Jamaica, NY 11434.

DATE REVOKED: April 26, 2012.

REASON: Voluntarily surrendered license.

LICENSE NUMBER: 15187N.

NAME: Gage Shipping Lines, Ltd.

ADDRESS: 23 South Street, Baltimore, MD 21202.

DATE REVOKED: June 18, 2012.

REASON: Failed to maintain a valid bond.

LICENSE NUMBER: 015941F.

NAME: Cargo Plus, Inc.

ADDRESS: 8333 Wessex Drive, Pennsauken, NJ 08109.

DATE REVOKED: June 23, 2012.

REASON: Failed to maintain a valid bond.

LICENSE NUMBER: 017267N.

NAME: Just In Time Services, Inc.

ADDRESS: 11380 NW 34th Street, Suite 100, Doral, FL 33178.

DATE REVOKED: June 21, 2012.

REASON: Failed to maintain a valid bond.

LICENSE NUMBER: 017754N.

NAME: Adcom Express, Inc. dba Adcom Worldwide.

ADDRESS: 7424 West 78th Street, Edina, MN 55439.

DATE REVOKED: June 24, 2012.

REASON: Failed to maintain a valid bond.

LICENSE NUMBER: 019288N.

NAME: Kairos Logistics LLC.

ADDRESS: 13047 Artesia Blvd., Suite C-202, Cerritos, CA 90703.

DATE REVOKED: May 23, 2012.

REASON: Failed to maintain a valid bond.

LICENSE NUMBER: 020717NF.

NAME: SS-World Enterprise, Inc. dba Smooth Shipping.

ADDRESS: 305 NW 24th Street, Grand Prairie, TX 75050.

DATE REVOKED: June 22, 2012.

REASON: Voluntarily surrendered license.

LICENSE NUMBER: 022228N.

NAME: Mota Import Export LLC dba MTI Mota Import Cargo Express.

ADDRESS: 175 Smith Street, Perth Amboy, NJ 08861.

DATE REVOKED: June 19, 2012.

REASON: Failed to maintain a valid bond.

LICENSE NUMBER: 022597N.

NAME: Sky Express World Courier, Inc.

ADDRESS: 1740 S. Los Angeles Street, Suite 201, Los Angeles, CA 90015.

DATE REVOKED: June 14, 2012.

REASON: Failed to maintain a valid bond.

LICENSE NUMBER: 023327N.

NAME: G & F West Indies Shipping, Inc.

ADDRESS: 1416 Blue Hill Avenue, Boston, MA 02126.

DATE REVOKED: June 26, 2012.

REASON: Failed to maintain a valid bond.

Vern W. Hill,
Director, Bureau of Certification and Licensing.

[FR Doc. 2012-17476 Filed 7-17-12; 8:45 am]

BILLING CODE 6730-01-P